FEDERAL RETIREMENT THRIFT INVESTMENT BOARD

Sunshine Act Meeting

TIME AND DATE: 9 a.m. (e.d.t.); July 19, 2004.

PLACE: 4th Floor Conference Room, 1250 H Street, NW., Washington, DC.

AGENCY: Federal Retirement Thrift Investment Board.

ACTION: Notice; correction.

SUMMARY: The Federal Retirement Thrift Investment Board published a notice in the Federal Register on Friday, July 9, 2004, Vol. 69, No. 131, page 41488, in the third column. Please add the following under Parts Closed to the Public:

7. Procurement.

CONTACT PERSON FOR MORE INFORMATION: Thomas J. Trabucco, Director, Office of External Affairs, (202) 942-1640.

Dated: July 12, 2004.
Elizabeth S. Woodruff,
Secretary to the Board, Federal Retirement Thrift Investment Board.

[FR Doc. 04-16089 Filed 7-12-04; 1:57 pm]

BILLING CODE 6760-01-P